DEPARTMENT OF HEALTH AND HUMAN SERVICES

Centers for Disease Control and Prevention

Advisory Council for the Elimination of Tuberculosis: Notice of Charter Renewal.

This gives notice under the Federal Advisory Committee Act (Pub. L. 92-463) of October 6, 1972, that the Advisory Council for the Elimination of Tuberculosis, Centers for Disease Control and Prevention, Department of Health and Human Services, has been renewed for a 2-year period through March 15, 2009.

For information, contact Kenneth Castro, M.D., Executive Secretary, Advisory Council for the Elimination of Tuberculosis, Centers for Disease Control and Prevention, Department of Health and Human Services, 1600 Clifton Road, NE., Mailstop E10, Atlanta, Georgia 30333, telephone 404/639-8000 or fax 404/639-8604.

The Director, Management Analysis and Services Office, has been delegated the authority to sign Federal Register notices pertaining to announcements of meetings and other committee management activities, for both the Centers for Disease Control and Prevention and the Agency for Toxic Substances and Disease Registry.

Dated: March 26, 2007.
Elaine L. Baker,
Acting Director, Management Analysis and Services Office Centers for Disease Control and Prevention.

[FR Doc. E7-6016 Filed 3-30-07; 8:45 am]

BILLING CODE 4163-18-P